DEPARTMENT OF AGRICULTURE

Submission for OMB Review; Comment Request

May 8, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 12, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Location of Irradiation Treatment Facilities in the United States.

OMB Control Number: 0579-0383.

Summary of Collection: The United States Department of Agriculture (USDA) is responsible for preventing plant diseases or insect pests from entering into the United States, preventing the spread of pests and noxious weeds not widely distributed into the United States, and eradicating those imported pests when eradication is feasible. The Plant Protection Act (7 U.S.C. 7701—et seq.) authorizes USDA to carry out this mission. Under the Plant Protection Act, the Animal and Plant Health Inspection Service (APHIS) is authorized, among other things, to regulate the importation of plants, plant products, and other articles to prevent the introduction of plant pests in the United States.

Need and Use of the Information: APHIS will use the following information collection activities to provide criteria for the approval/certification of irradiation treatment facilities in an effort to prevent the introduction or spread of plant pests and plant diseases in the United States: Request for Initial Certification and Inspection of Facility; Certification and Recertification of Facility; Denial and Withdrawal of Certification; Compliance Agreement; Irradiation Facilities Treating Imported Articles; Irradiation Treatment Framework Equivalency Work plan; Irradiation Facilities Notification; Recordkeeping; Facility to Maintain and Provide Updated Map Identifying Places Horticultural/Crops are Grown; Facility Contingency Plan; Letter of Concurrence or Non-Agreement; Treatment Arrangements; Pest Management Plan; and Facility Map—Detailed Layout of Facility. If the information is not collected, APHIS would have no practical way of determining that any given commodity had actually been irradiated.

Description of Respondents: Business or other for-profits; Federal Government; State, Local or Tribal Government.

Number of Respondents: 24.

Frequency of Responses: Reporting: On occasion.

Total Burden Hours: 988.

Ruth Brown,
Departmental Information Collection Clearance Officer.

[FR Doc. 2019-09758 Filed 5-10-19; 8:45 am]

BILLING CODE 3410-34-P